OFFICE OF THE DIRECTOR OF NATIONAL INTELLIGENCE

Office of the Chief Human Capital Officer; Information Collection; Ancestry and Ethnicity Data Elements; Correction

AGENCY: Office of the Director of National Intelligence.

ACTION: Notice; correction.

SUMMARY: The Office of the Director of National Intelligence published a document in the Federal Register of May 11, 2009, concerning request for comments by the general public and Federal Agencies on the standard data elements being reviewed under regular review procedures for use by the Intelligence Community. The document contained an incorrect mailing address.

FOR FURTHER INFORMATION CONTACT: Office of the Chief Human Capital Officer, 703-275-3365.

Correction

In the Federal Register of May 11, 2009, in FR Doc. E9-10475, on page 21834, in the SUMMARY, correct the last sentence to read:

These data elements can be viewed on the Web site http://www.intelligence.gov. Click on Careers, A Place For You, which will direct you to http://www.intelligence.gov/3place.shtml. Click on the Federal Register—Data Elements link.

In the Federal Register of May 11, 2009, in FR Doc. E9-10475, on page 21834, in the last paragraph, correct the FOR FURTHER INFORMATION CONTACT caption to read:

The Office of the Chief Human Capital Officer, ODNI, Washington, DC 20511, 703-275-3365. Please cite OMB Control No. 3440—NEW, Ancestry and Ethnicity Data Elements. The form can be downloaded from http://www.intelligence.gov. Click on Careers, A Place for You, which will direct you to http://www.intelligence.gov/3place.shtml. Click on the Federal Register—Data Elements link.

In the Federal Register of May 11, 2009, in FR Doc. E9-10475, on page 21835, in the last paragraph, correct the Obtaining Copies of Proposals caption to read:

Requesters may obtain a copy of the information collection documents from the Office of the Chief Human Capital Officer, ODNI, at Washington, DC 20511, or call 703-275-3365. Please cite Ancestry and Ethnicity Data Elements in all correspondence.

Dated: June 9, 2009.
Deatri L. Brewer,
DNI PRA Clearance Officer.

[FR Doc. E9-14443 Filed 6-18-09; 8:45 am]

BILLING CODE P